DEPARTMENT OF COMMERCE

National Oceanic and Atmospheric Administration

[I.D. 101706F ]

National Marine Fisheries Service; Notice of Availability of the Interim Final Ten Year Plan for the NOAA Aquaculture Program

AGENCY: National Marine Fisheries Service (NMFS), National Oceanic and Atmospheric Administration (NOAA), Commerce.

ACTION: Notice of availability of the Interim Final Ten Year Plan for the NOAA Aquaculture Program.

SUMMARY: The National Oceanic and Atmospheric Administration and the National Marine Fisheries Service announce the availability of the Interim Final Ten Year Plan for the NOAA Aquaculture Program (Plan). The Plan addresses NOAA's involvement in marine aquaculture in the United States over the next ten years. It includes Program Goals and Strategies, Outcomes, Benefits, Budget and Staffing Requirements, and Challenges. The Plan was prepared by NOAA at the request of the Marine Fisheries Advisory Committee (MAFAC) which advises the Secretary of Commerce on all living marine resource matters that are the responsibility of the Department of Commerce. At its July 25-27, 2006 meeting, the MAFAC reviewed the Plan and recommended that it be formally adopted by NOAA. Before taking this step, NOAA is providing the public an opportunity to comment on the Plan .

DATES: NOAA invites electronic and written comments on the Plan. All comments should be submitted by the close of business November 30, 2006 to ensure consideration.Comments submitted after that date will be considered to the extent possible.

ADDRESSES: The Plan and information about the NOAA Aquaculture Program are available on the NOAA Worldwide Web site at: http://www.aquaculture.noaa.gov. Electronic comments should be submitted to NOAA.Aquaculture@noaa.gov.Requests for hard copies of the Plan and/or submission of written comments should be directed to the NOAA Aquaculture Program, 1315 East-West Highway, room 13117, Silver Spring, MD 20910; by fax at (301) 713-9108; or by phone at (301) 713-9079.

FOR FURTHER INFORMATION CONTACT: Bruce Morehead or Kate Naughten, NOAA Aquaculture Program, NOAA/National Marine Fisheries Service,1315 East-West Highway, room 13117, Silver Spring, MD 20910, (301) 713-9079 or email at:bruce.morehead@noaa.gov or kate.naughten@noaa.gov.

Dated: November 1, 2006.
John Oliver,
Deputy Assistant Administrator for Operations, National Marine Fisheries Service.

[FR Doc. E6-18701 Filed 11-3-06; 8:45 am]

BILLING CODE 3510-22-S